DEPARTMENT OF HOMELAND SECURITY

Coast Guard

[USCG-2010-0849]

Detroit Area Maritime Security Committee (AMSC); Vacancies

AGENCY: Coast Guard, DHS.

ACTION: Solicitation for Membership.

SUMMARY: This notice requests individuals interested in serving on the Detroit Area Maritime Security Committee (AMSC) to submit their applications for membership to the Captain of the Port Sector Detroit.

DATES: Requests for membership should reach the U.S. Coast Guard Captain of the Port Detroit by November 1, 2010.

ADDRESSES: Applications for membership should be submitted to the Captain of the Port Detroit at the following address: U.S. Coast Guard Sector Detroit, 110 Mt. Elliot Ave., Detroit, MI, 48207.

FOR FURTHER INFORMATION CONTACT: For questions about submitting an application or about the AMSC in general contact: Mr. Paul Raska, Planning Department, U.S. Coast Guard Sector Detroit, 110 Mount Elliot Ave., Detroit MI, 48207; 313-656-2667.

SUPPLEMENTARY INFORMATION:

Authority

Section 102 of the Maritime Transportation Security Act (MTSA) of 2002 (Pub. L. 107-295) added section 70112 to title 46 of U.S. Code and authorized the Secretary of the Department in which the Coast Guard is operating to establish Area Maritime Security Committees for any port area of the United States. (See 33 U.S.C. 1226; 46 U.S.C.; 33 CFR 1.05-1, 6.01; Department of Homeland Security Delegation No. 0170.1). The MTSA includes a provision exempting these AMS Committees from the Federal Advisory Committee Act (FACA), Public Law 92-436, 86 Stat. 470 (5 U.S.C. App.2). The AMSCs shall assist the Captain of the Port in the development, review, update, and exercising of the AMS Plan for their area of responsibility. Such matters may include, but are not limited to: Identifying critical port infrastructure and operations; Identifying risks (threats, vulnerabilities, and consequences); Determining mitigation strategies and implementation methods; Developing strategies to facilitate the recovery of the MTS after a Transportation Security Incident; Developing and describing the process to continually evaluate overall port security by considering consequences and vulnerabilities, how they may change over time, and what additional mitigation strategies can be applied; and Providing advice to, and assisting the Captain of the Port in developing and maintaining the Area Maritime Security Plan.

AMS Committee Membership

Members of the AMSC should have at least 5 years of experience related to maritime or port security operations. The Detroit AMSC has 19 members. We are seeking to fill 15 vacancies with this solicitation. Applicants may be required to pass an appropriate security background check prior to appointment to the committee.

Members' terms of office will be for 5 years; however, a member is eligible to serve an additional term of office. Members will not receive any salary or other compensation for their service on the AMSC. In support of the policy of the USCG on gender and ethnic diversity, we encourage qualified women and members of minority groups to apply.

Request for Applications

Those seeking membership are not required to submit formal applications to the local Captain of the Port. However, because we do have an obligation to ensure that a specific number of members have the prerequisite maritime security experience, we encourage the submission of resumes highlighting experience in the maritime and security industries.

Dated: September 14, 2010.
E.J. Marohn,
Commander, U.S. Coast Guard, Acting Captain of the Port Detroit.

[FR Doc. 2010-24365 Filed 9-28-10; 8:45 am]

BILLING CODE 9110-04-P